DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: West Coast Region Groundfish Electronic Fish Ticket Program.

OMB Control Number: 0648-0738.

Form Number(s): None.

Type of Request: Regular submission (extension of a currently approved collection).

Number of Respondents: 145.

Average Time per Response: Electronic fish tickets/IFQ First Receiver submissions: 10 minutes; Electronic fish tickets/IFQ First Receiver Pacific whiting disposition recordkeeping: 1 minute; Electronic fish ticket submission: 2 minutes.

Burden Hours: 566 hours.

Needs and Uses: As part of its fishery management responsibilities, the National Oceanic and Atmospheric Administration (NOAA), National Marine Fisheries Service (NMFS) collects information to determine the amount and type of groundfish caught by fishing vessels. Electronic fish tickets are submissions of landings data from the first receiver to the Pacific States Marine Fisheries Commission (PSMFC) and NMFS. This collection supports requirements for participants of the Pacific Coast shorebased commercial groundfish fisheries, including the shorebased Individual Fishing Quota (IFQ) program, the limited entry fixed gear fishery, and the open access fixed gear fishery, to account for all landed catch and to transmit electronic catch data used to manage the catch allocations and limits. NMFS may use this data for general purpose statistics and program evaluation.

Affected Public: Primary respondents are businesses or other for-profit organizations (e.g., groundfish fishermen, fishing companies, partnerships, and shorebased first receivers), individuals or households, and state fisheries agencies.

Frequency: Reporting occurs concurrently with fishing landings, which could range from occasionally to daily depending on the frequency of fishing throughout the season.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-25878 Filed 11-27-19; 8:45 am]

BILLING CODE 3510-22-P